DEPARTMENT OF ENERGY

Federal Energy Regulatory Commission

Combined Notice of Filings #1

Take notice that the Commission received the following electric rate filings:

Docket Numbers: ER11-3814-001.

Applicants: New York Independent System Operator, Inc.

Description: New York Independent System Operator, Inc. submits tariff filing per 35.17(b): Amendment to NYISO June 16, 2011 tariff revisions in OATT Attachment CC to be effective 8/16/2011.

Filed Date: 08/02/2011.

Accession Number: 20110802-5120.

Comment Date: 5 p.m. Eastern Time on Tuesday, August 09, 2011.

Docket Numbers: ER11-4172-001.

Applicants: Southwest Power Pool, Inc.

Description: Southwest Power Pool, Inc. submits tariff filing per 35.17(b): 1636R4 Kansas Electric Power Coop., Inc. NISTA NOA Errata Filing to be effective 7/1/2011.

Filed Date: 08/02/2011.

Accession Number: 20110802-5122.

Comment Date: 5 p.m. Eastern Time on Tuesday, August 23, 2011.

Docket Numbers: ER11-4176-001.

Applicants: California Independent System Operator Corporation.

Description: California Independent System Operator Corporation submits tariff filing per 35.17(b): 2011-08-02 CAISO Errata to SPTC Amendment to be effective 10/1/2011.

Filed Date: 08/02/2011.

Accession Number: 20110802-5123.

Comment Date: 5 p.m. Eastern Time on Tuesday, August 23, 2011.

Docket Numbers: ER11-4184-000.

Applicants: Arizona Public Service Company.

Description: Arizona Public Service Company submits tariff filing per 35.13(a)(2)(iii: Modification of its Transmission Depreciation Rate to be effective 10/1/2011.

Filed Date: 08/02/2011.

Accession Number: 20110802-5000.

Comment Date: 5 p.m. Eastern Time on Tuesday, August 23, 2011.

Docket Numbers: ER11-4184-001.

Applicants: Arizona Public Service Company.

Description: Arizona Public Service Company submits tariff filing per 35.17(b): Amendment to the APS depreciation filing to add affidavit of Z. Fryer to be effective 10/1/2011.

Filed Date: 08/02/2011.

Accession Number: 20110802-5118.

Comment Date: 5 p.m. Eastern Time on Tuesday, August 23, 2011.

Docket Numbers: ER11-4186-000.

Applicants: Wolverine Power Supply Cooperative, Inc., Midwest Independent Transmission System Operator, Inc.

Description: Wolverine Power Supply Cooperative, Inc. submits tariff filing per 35.13(a)(2)(iii: Wolverine-Consumers IAs to be effective 1/14/2011.

Filed Date: 08/02/2011.

Accession Number: 20110802-5056.

Comment Date: 5 p.m. Eastern Time on Tuesday, August 23, 2011.

Docket Numbers: ER11-4187-000.

Applicants: San Diego Gas & Electric Company.

Description: San Diego Gas & Electric Company submits tariff filing per 35.13(a)(2)(iii: Restated Engineering & Procurement Agreement to be effective 8/2/2011.

Filed Date: 08/02/2011.

Accession Number: 20110802-5057.

Comment Date: 5 p.m. Eastern Time on Tuesday, August 23, 2011.

Docket Numbers: ER11-4188-000.

Applicants: Carolina Power & Light Company.

Description: Notice of Cancellation of Netting Agreements of Carolina Power & Light Company.

Filed Date: 08/02/2011.

Accession Number: 20110802-5090.

Comment Date: 5 p.m. Eastern Time on Tuesday, August 23, 2011.

Docket Numbers: ER11-4189-000.

Applicants: Florida Power Corporation.

Description: Notice of Cancellation of Netting Agreements of Florida Power Corporation under ER11-4189.

Filed Date: 08/02/2011.

Accession Number: 20110802-5092.

Comment Date: 5 p.m. Eastern Time on Tuesday, August 23, 2011.

Docket Numbers: ER11-4190-000.

Applicants: Allegheny Energy Supply Company, LLC.

Description: Allegheny Energy Supply Company, LLC submits tariff filing per 35: AES ER11-3813 Amendment Filing to be effective 6/1/2011 under ER11-4190 Filing Type: 70

Filed Date: 08/02/2011.

Accession Number: 20110802-5093.

Comment Date: 5 p.m. Eastern Time on Tuesday, August 23, 2011.

Docket Numbers: ER11-4191-000.

Applicants: Portland General Electric Company.

Description: Portland General Electric Company submits tariff filing per 35.13(a)(2)(iii: Montana Intertie Agreement to be effective 10/1/2011 under ER11-4191 Filing Type: 10

Filed Date: 08/02/2011.

Accession Number: 20110802-5112.

Comment Date: 5 p.m. Eastern Time on Tuesday, August 23, 2011.

Docket Numbers: ER11-4192-000.

Applicants: Avista Corporation.

Description: Avista Corporation submits tariff filing per 35.13(a)(2)(iii: Avista Corp FERC Rate Schedule No. 183 to be effective 10/1/2011 under ER11-4192 Filing Type: 10

Filed Date: 08/02/2011.

Accession Number: 20110802-5116.

Comment Date: 5 p.m. Eastern Time on Tuesday, August 23, 2011.

Docket Numbers: ER11-4193-000.

Applicants: PacifiCorp.

Description: PacifiCorp submits tariff filing per 35.13(a)(2)(iii: Montana Intertie Project Transmission Agreement to be effective 10/1/2011 under ER11-4193 Filing Type: 10

Filed Date: 08/02/2011.

Accession Number: 20110802-5119.

Comment Date: 5 p.m. Eastern Time on Tuesday, August 23, 2011.

Docket Numbers: ER11-4194-000.

Applicants: NorthWestern Corporation.

Description: NorthWestern Corporation submits tariff filing per 35.13(a)(2)(iii: Rate Schedule FERC No. 185—Montana Intertie Project Transmission Agreement to be effective 10/1/2011 under ER11-4194 Filing Type: 10.

Filed Date: 08/02/2011.

Accession Number: 20110802-5121.

Comment Date: 5 p.m. Eastern Time on Tuesday, August 23, 2011.

Docket Numbers: ER11-4200-000.

Applicants: TC Ravenswood, LLC.

Description: Motion of TC Ravenswood, LLC for waiver of New York Independent System Operator, Inc.'s tariff provisions regarding black start and system restoration procedures; and request for expedited treatment.

Filed Date: 08/02/2011.

Accession Number: 20110802-5159.

Comment Date: 5 p.m. Eastern Time on Tuesday, August 23, 2011.

Take notice that the Commission received the following public utility holding company filings:

Docket Numbers: PH11-19-000.

Applicants: Enbridge Inc.

Description: Notice of Materical Change in Facts of Enbridge Inc. under PH11-19.

Filed Date: 08/02/2011.

Accession Number: 20110802-5162.

Comment Date: 5 p.m. Eastern Time on Tuesday, August 23, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 3, 2011.
Nathaniel J. Davis, Sr.,
Deputy Secretary.

[FR Doc. 2011-20293 Filed 8-9-11; 8:45 am]

BILLING CODE 6717-01-P